NUCLEAR REGULATORY COMMISSION

[NRC-2010-0034]

Draft Emergency Action Level Frequently Asked Questions; Request for Comment

AGENCY: Nuclear Regulatory Commission.

ACTION: Notice of availability and opportunity for public comment.

SUMMARY: The U.S. Nuclear Regulatory Commission (NRC) is making available for comment an Emergency Action Level (EAL) frequently asked question (FAQ). This EALFAQ will be used to provide clarification of endorsed Nuclear Energy Institute (NEI) guidance related to the development of security related EALs. This EALFAQ was developed by the NRC at the request of NEI. The NRC is publishing this preliminary result to inform the public and solicit comments.

DATES: Submit comments by March 8, 2010. Comments submitted after this date will be considered if it is practical to do so, but assurance of consideration cannot be given except for comments received on or before this date.

ADDRESSES: Please include Docket ID NRC-2010-0034 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You may submit comments by any one of the following methods:

Federal Rulemaking Web site: Go to http://www.regulations.gov and search for documents filed under Docket ID NRC-2010-0034. Comments may be submitted electronically through this Web site. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee, publicly available documents at the NRC's PDR, Public File Area O-1F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The ADAMS accession number for the Draft EALFAQ is ML100070115. The draft question is also available on the NRC Web site at http://www.nrc.gov/about-nrc/emerg-preparedness/emerg-action-level-dev.htm. The ADAMS accession number for NEI 99-01, Revision 5, “Methodology for Development of Emergency Action Levels,” is ML080450149.

Federal Rulemaking Web site: Public comments and supporting materials related to this notice can be found at http://www.regulations.gov by searching on Docket ID: NRC-2010-0034.

FOR FURTHER INFORMATION CONTACT: Don A. Johnson, Office of Nuclear Security and Incident Response, Mail Stop T3-B46M, U.S. Nuclear Regulatory Commission, Washington, DC 20555-0001, 301-415-4040 or by e-mail at Don.Johnson@nrc.gov.

SUPPLEMENTARY INFORMATION: The NRC is requesting comment on this draft EALFAQ. The NRC has developed this pilot program for the staff to provide clarification of endorsed EAL development guidance [ADAMS accession number for the EALFAQ process is ML051950213]. This process is intended to describe the manner in which the NRC may provide interested outside parties an opportunity to share their individual views with NRC staff regarding the appropriate response to questions raised on the interpretation or applicability of emergency preparedness regulatory guidance issued by the NRC, before the NRC issues an official response to such questions.

Dated at Rockville, MD this 21st day of January, 2010.
For the Nuclear Regulatory Commission.
Kevin Williams,
Deputy Director (Acting) for Emergency Preparedness, Division of Preparedness and Response, Office of Nuclear Security and Incident Response.

[FR Doc. 2010-2545 Filed 2-4-10; 8:45 am]

BILLING CODE 7590-01-P